NATIONAL AERONAUTICS AND SPACE ADMINISTRATION

[Notice: 17-042]

NASA Advisory Council; Science Committee; Meeting

AGENCY: National Aeronautics and Space Administration.

ACTION: Notice of meeting.

SUMMARY: In accordance with the Federal Advisory Committee Act, as amended, the National Aeronautics and Space Administration (NASA) announces a meeting of the Science Committee of the NASA Advisory Council (NAC). The meeting will be held for the purpose of soliciting, from the scientific community and other persons, scientific and technical information relevant to program planning. This Committee reports to the NAC.

DATES: Monday, July 24, 2017, 8:30 a.m.-5:30 p.m.; and Tuesday, July 25, 2017, 9:00 a.m.-5:15 p.m., Local Time.

ADDRESSES: National Institute of Aerospace, Room 141 (on July 24) and Room 137 (on July 25), 100 Exploration Way, Hampton, VA 23666.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be open to the public up to the seating capacity of the room. This meeting is also available telephonically and by WebEx. You must use a touch-tone phone to participate in this meeting. For July 24, please use the following information. The Science Committee meeting will be held in Room 141. Any interested person may dial the toll free number 1-888-592-9603 or toll access number 1-312-470-7407, and then the numeric participant passcode: 5588797 followed by the # sign. The WebEx link is https://nasa.webex.com/; the meeting number is 991 826 993 and the password is SC@July2017. For July 25, please use the following information. The joint Science Committee/Human Exploration and Operations Committee meeting will be held in Room 137. Any interested person may dial the toll free number 1-888-324-9238 or toll access number 1-517-308-9132, and then the numeric participant passcode: 3403297 followed by the # sign. The WebEx link is https://nasa.webex.com/, the meeting number is 991 050 585, and the password is Exploration@2017 (case sensitive).

Note: If dialing in, please “mute” your telephone.

The agenda for the meeting includes the following topics:

—Future Human Exploration Plans and Science Opportunities Overview

—Science Mission Directorate FY 2018 Budget Briefing

—Research and Analysis Charge

—Total Solar Eclipse Science

Attendees will be requested to sign a register. It is imperative that the meeting be held on these dates to the scheduling priorities of the key participants.

Carol J. Hamilton,
Acting Advisory Committee Management Officer, National Aeronautics and Space Administration.

[FR Doc. 2017-14120 Filed 7-5-17; 8:45 am]

BILLING CODE 7510-13-P